SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: March 1-31, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Water Source Approval—Issued Under 18 CFR 806.22(f)

1. Coterra Energy Inc.; Pad ID: BrazitisD P1; ABR-202203002; Lenox Township, Susquehanna County, Pa.; Consumptive Use of Up to 5.0000 mgd; Approval Date: March 9, 2022.

2. EXCO Resources (PA), LLC; Pad ID: Patterson Drilling Pad #1; ABR-20100146.R21; Shrewsbury Township, Sullivan County, Pa.; Consumptive Use of Up to 5.0000 mgd; Approval Date: March 9, 2022.

3. Pennsylvania General Energy Company, L.L.C.; Pad ID: COP Tract 356 Pad J; ABR-201201014.R2; Cummings Township, Lycoming County, Pa.; Consumptive Use of Up to 3.0000 mgd; Approval Date: March 11, 2022.

4. SWN Production Company, LLC.; Pad ID: FIELDS PAD 1; ABR-201202015.R2; Herrick Township, Bradford County, Pa.; Consumptive Use of Up to 4.9990 mgd; Approval Date: March 11, 2022.

5. Chesapeake Appalachia, L.L.C.; Pad ID: Otis; ABR-20100318.R2; Herrick Township, Bradford County, Pa.; Consumptive Use of Up to 7.5000 mgd; Approval Date: March 14, 2022.

6. Chief Oil & Gas, LLC; Pad ID: AMBROSIUS B PAD; ABR-201703002.R1; Wilmot Township, Bradford County, Pa.; Consumptive Use of Up to 2.5000 mgd; Approval Date: March 14, 2022.

7. Repsol Oil & Gas USA, LLC; Pad ID: Spencer 729; ABR-201009065.R2; Liberty Township, Tioga County, Pa.; Consumptive Use of Up to 4.9900 mgd; Approval Date: March 15, 2022.

8. Repsol Oil & Gas USA, LLC; Pad ID: Red Run Mountain Inc. 739; ABR-201010006.R2; McIntyre Township, Lycoming County, Pa.; Consumptive Use of Up to 4.9900 mgd; Approval Date: March 15, 2022.

9. Repsol Oil & Gas USA, LLC; Pad ID: Parent 749; ABR-201012054.R2; Canton Township, Bradford County, Pa.; Consumptive Use of Up to 4.9900 mgd; Approval Date: March 15, 2022.

10. SWN Production Company, LLC.; Pad ID: WATTS; ABR-201202028.R2; New Milford Township, Susquehanna County, Pa.; Consumptive Use of Up to 4.9990 mgd; Approval Date: March 15, 2022.

11. Seneca Resources Company, LLC; Pad ID: Covington Pad R; ABR-202203001; Covington Township, Tioga County, Pa.; Consumptive Use of Up to 4.0000 mgd; Approval Date: March 16, 2022.

12. Coterra Energy Inc.; Pad ID: TompkinsJ P1; ABR-202203006; Gibson Township, Susquehanna County, Pa.; Consumptive Use of Up to 5.0000 mgd; Approval Date: March 23, 2022.

13. Coterra Energy Inc.; Pad ID: RayiasE P2; ABR-202203005; Brooklyn Township, Susquehanna County, Pa.; Consumptive Use of Up to 5.0000 mgd; Approval Date: March 23, 2022.

14. Big Dog Energy, LLC; Pad ID: Cowfer B (CC-09) Pad; ABR-201107010.R2; Gulich Township, Clearfield County, Pa.; Consumptive Use of Up to 5.0000 mgd; Approval Date: March 23, 2022.

15. Big Dog Energy, LLC; Pad ID: River Hill Power Karthaus Pad; ABR-201107014.R2; Karthaus Township, Clearfield County, Pa.; Consumptive Use of Up to 5.0000 mgd; Approval Date: March 23, 2022.

16. Chesapeake Appalachia, L.L.C.; Pad ID: Cappucci; ABR-20100312R2; Mehoopany Township, Wyoming County, Pa.; Consumptive Use of Up to 7.5000 mgd; Approval Date: March 23, 2022.

17. Seneca Resources Company, LLC; Pad ID: Murray Pad A; ABR-20100317.R2; Richmond Township, Tioga County, Pa.; Consumptive Use of Up to 4.0000 mgd; Approval Date: March 23, 2022.

18. Repsol Oil & Gas USA, LLC; Pad ID: MORGAN (01 074) W; ABR-20100302.R2; Armenia Township, Bradford County, Pa.; Consumptive Use of Up to 6.0000 mgd; Approval Date: March 23, 2022.

19. Repsol Oil & Gas USA, LLC; Pad ID: DCNR 587 (02 013); ABR-20100308.R2; Ward Township, Tioga County, Pa.; Consumptive Use of Up to 6.0000 mgd; Approval Date: March 23, 2022.

20. SWN Production Company, LLC.; Pad ID: GOOD; ABR-201201027.R2; Cogan House Township and Jackson Township, Lycoming County, Pa.; Consumptive Use of Up to 4.9990 mgd; Approval Date: March 23, 2022.

21. Coterra Energy Inc.; Pad ID: HinkleyR P1; ABR-20100322.R2; Springville Township, Susquehanna County, Pa.; Consumptive Use of Up to 5.0000 mgd; Approval Date: March 23, 2022.

22. Coterra Energy Inc.; Pad ID: LauerD P1; ABR-202203004; Springville Township, Susquehanna County, Pa.; Consumptive Use of Up to 5.0000 mgd; Approval Date: March 29, 2022.

23. Coterra Energy Inc.; Pad ID: ManzerA P1; ABR-201203013.R2; Gibson Township, Susquehanna County, Pa.; Consumptive Use of Up to 5.0000 mgd; Approval Date: March 29, 2022.

24. Coterra Energy Inc.; Pad ID: RussoB P2; ABR-20100326.R2; Springville Township, Susquehanna County, Pa.; Consumptive Use of Up to 5.0000 mgd; Approval Date: March 29, 2022.

25. Chesapeake Appalachia, L.L.C.; Pad ID: Marbaker; ABR-20100321.R2; Auburn Township, Susquehanna County, Pa.; Consumptive Use of Up to 7.5000 mgd; Approval Date: March 29, 2022.

26. Inflection Energy (PA), LLC; Pad ID: Nature Boy East; ABR-201203010.R2; Upper Fairfield Township, Lycoming County, Pa.; Consumptive Use of Up to 4.0000 mgd; Approval Date: March 31, 2022.

27. SWN Production Company, LLC.; Pad ID: GREMMEL; ABR-201203005.R2; Jackson Township, Susquehanna County, Pa.; Consumptive Use of Up to 4.9990 mgd; Approval Date: March 31, 2022.

28. Chesapeake Appalachia, L.L.C.; Pad ID: Rose; ABR-20100327.R2; Towanda Township, Bradford County, Pa.; Consumptive Use of Up to 7.5000 mgd; Approval Date: March 31, 2022.

29. Chesapeake Appalachia, L.L.C.; Pad ID: Walt; ABR-20100329.R2; Albany Township, Bradford County, Pa.; Consumptive Use of Up to 7.5000 mgd; Approval Date: March 31, 2022.

30. Seneca Resources Company, LLC; Pad ID: Webster 549; ABR-20100335.R2; Delmar Township, Tioga County, Pa.; Consumptive Use of Up to 4.0000 mgd; Approval Date: March 31, 2022.

31. Chief Oil & Gas, LLC; Pad ID: Stasiak Drilling Pad #1; ABR-201203025.R2; Ward Township, Tioga County, Pa.; Consumptive Use of Up to 6.0000 mgd; Approval Date: March 31, 2022.

32. Coterra Energy Inc.; Pad ID: WarnerA P1; ABR-20100331.R2; Delmar Township, Susquehanna County, Pa.; Consumptive Use of Up to 5.0000 mgd; Approval Date: March 31, 2022.

33. Coterra Energy Inc.; Pad ID: GrosvenorD P1; ABR-20100333.R2; Dimock Township, Susquehanna County, Pa.; Consumptive Use of Up to 5.0000 mgd; Approval Date: March 31, 2022.

34. Blackhill Energy LLC; Pad ID: WOLFE B Pad; ABR-201203002.R2; Athens Township, Bradford County, Pa.; Consumptive Use of Up to 4.9900 mgd; Approval Date: March 31, 2022.

Authority: Public Law 91-575, 84 Stat. 1509 et seq., 18 CFR parts 806 and 808.

Dated: April 8, 2022.
Jason E. Oyler,
General Counsel and Secretary to the Commission.

[FR Doc. 2022-07885 Filed 4-12-22; 8:45 am]

BILLING CODE 7040-01-P